AGENCY FOR INTERNATIONAL DEVELOPMENT

Notice of Public Information Collection Requirements Submitted to OMB for Review

SUMMARY: U.S. Agency for International Development (USAID) has submitted the following information collection to OMB for review and clearance under the Paperwork Reduction Act of 1995.

DATES: Comments regarding this information collection are best assured of having their full effect if received within 30 days of this notification.

ADDRESSES: Comments should be addressed to: Desk Officer for USAID, Office of Information and Regulatory Affairs, Office of Management and Budget (OMB), 725 17th Street NW, Washington, DC 20503 or email address: OIRA Submission@OMB.eop.gov. Copies of submission may be obtained by calling (202) 712-5007.

SUPPLEMENTARY INFORMATION:

OMB Number: OMB 0412-XXXX.

Title: Fast Track Generic Clearance for the Collection of Qualitative Feedback.

Type: Renewal.

Purpose: The purpose of the collection is to enable the U.S. Agency for International Development and as part of a Federal Government-wide effort to streamline the process to seek feedback from the public on service delivery, we are seeking Comment on the development of the following proposed Generic Information Collection Request (Generic ICR): “Fast Track Generic Clearance for the Collection of Qualitative Feedback on Agency Service Delivery” for approval under the Paperwork Reduction Act (PRA) (44 U.S.C. 3501 et. seq.). This notice announces our intent to submit this collection to OMB for approval and solicits comments on specific aspects for the proposed information collection: This option is a fast track for approval to streamline the timing to implement certain types of surveys and related collection of information. USAID uses the approval to cover the instruments of collection (such as a survey, a window pop-up survey, a focus group, or a comment card), which are designed to get customer feedback on USAID service delivery for various programs.

Annual Reporting Burden:

Respondents per request: 1.

Total annual responses: 10,000.

Total annual hours requested: 10,000.

Dated: December 22, 2017.
Lynn P. Winston,
Chief, Information and Records Division, FOIA Public Liaison, Agency Records Officer, U.S. Agency for International Development, Bureau for Management, Office of Management Services, Information and Records Division.

[FR Doc. 2017-28304 Filed 1-8-18; 8:45 am]

BILLING CODE 6116-01-M